DEPARTMENT OF EDUCATION

34 CFR Chapter III

[Docket ID ED-2019-OSERS-0044]

Proposed Waiver and Extension of the Project Period for a Grant That Provides Rehabilitation Short-Term Training to the Client Assistance Program (CAP)

AGENCY: Office of Special Education and Rehabilitative Services (OSERS), Department of Education.

ACTION: Proposed waiver and extension of project period.

SUMMARY: The Secretary proposes to waive the requirements in the Education Department General Administrative Regulations that generally prohibit project periods exceeding five years and project period extensions involving the obligation of additional Federal funds. The proposed waiver and extension would enable the Rehabilitation Short-Term Training to the CAP under Catalog of Federal Domestic Assistance (CFDA) number 84.246K to receive funding for an additional performance period of one year, not to exceed September 30, 2021.

DATES: We must receive your comments on or before May 27, 2020.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments about the proposed waiver and extension, address them to Felipe Lulli, U.S. Department of Education, 400 Maryland Avenue SW, Room 5101, Potomac Center Plaza, Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Contact Felipe Lulli, U.S. Department of Education, 400 Maryland Avenue SW, Room 5101, Potomac Center Plaza, Washington, DC 20202-2800. Telephone: 202-245-7425. Email: felipe.lulli@ed.gov.

If you use a telecommunications device for the deaf (TDD) or a text telephone (TTY), call the Federal Relay Service (FRS), toll free, at 1-800-877-8339.

SUPPLEMENTARY INFORMATION:

Invitation to Comment: We invite you to submit comments regarding this proposed waiver and extension.

We invite you to assist us in complying with the specific requirements of Executive Orders 12866, 13563, and 13771 and their overall requirement of reducing regulatory burden that might result from this proposed waiver and extension. Please let us know of any further ways we could reduce potential costs or increase potential benefits while preserving the effective and efficient administration of the program.

During and after the comment period, you may inspect all public comments about this proposed waiver and extension in Room 5059, 550 12th Street SW, Washington, DC, between the hours of 8:30 a.m. and 4:00 p.m., Eastern Time, Monday through Friday of each week, except Federal holidays.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

We are proposing to extend the Rehabilitation Short-Term Training—Client Assistance Program (CAP) for an additional year to assess and enhance the Department's CAP training and technical assistance approaches in light of (a) the expanded quality employment opportunities for individuals with disabilities promoted by the Workforce Innovation and Opportunity Act (WIOA) (29 U.S.C. 3101 et seq.); (b) promising employment initiatives advanced by the Rehabilitation Service Administration's (RSA's) Vocational Rehabilitation Technical Assistance Centers, consistent with WIOA; and (c) new training delivery platforms and methodologies that could be applied to this CAP training program. In short, the waiver and extension will allow RSA to design a new, innovative training program that, consistent with WIOA, would maximize the capacity of CAP personnel to inform, advise, and advocate for individuals with disabilities and facilitate their access to expanded quality employment opportunities in their States through services and supports available under the Rehabilitation Act of 1973, as amended by WIOA (Rehabilitation Act). These services and supports may include (a) pre-employment transition services and the limitations on the use of subminimum wages under sections 113 and 511 of the Rehabilitation Act; (b) career-focused credentials attainment and measurable skill gains; and (c) career exploration and career advancement strategies such as work-based learning, apprenticeships, customized employment, and career pathways.

The Rehabilitation Act authorizes the Short-Term Training Program under section 302 (29 U.S.C. 772) to train CAP personnel authorized under section 112 of the Rehabilitation Act (29 U.S.C. 732).

In September 2015, RSA awarded a 60-month grant to the National Disability Rights Network under the Rehabilitation Short-Term Training to the CAP to provide training and technical instruction to the 57 CAP grantees on the statutory and regulatory requirements governing the provision of vocational rehabilitation (VR) and other services under the Rehabilitation Act. The National Disability Rights Network's capacity-building activities address CAP management and operations, individual and systems advocacy, data collection and reporting, and specific provisions such as pre-employment transition services and limitations on the use of subminimum wages. Its training and technical instruction vehicles include an annual VR orientation meeting, a fiscal management conference, webinars, on-site visits, ongoing web resources and alerts, specialized institutes, and an annual conference, among other activities. The current project period ends on September 30, 2020.

Waivers and Extensions

The Department will not be running a Rehabilitation Short-Term Training to the CAP competition in FY 2020. Rather, the Department will be including the CAP as one of the topic areas under the Innovative Rehabilitation Training program. The Department has concluded that it would not be in the public interest to have a lapse in the critically needed resources currently provided by the Rehabilitation Short-Term Training to the CAP. Allowing training and technical instruction to lapse while the Department establishes its innovative CAP training program would reduce the capacity of the 57 CAP grantees nationwide to provide information to, and advocate on behalf of, individuals with disabilities seeking or receiving services from the VR and other programs under the Rehabilitation Act critical to their achievement of high-quality employment, independent living, and self-sufficiency.

For these reasons, the Secretary proposes to waive the requirements in 34 CFR 75.250, which prohibit project periods exceeding five years, and the requirements in 34 CFR 75.261(a) and (c)(2), which allow the extension of a project period only if the extension does not involve the obligation of additional Federal funds. The waiver would allow the Department to issue a one-time FY 2020 continuation award to the Rehabilitation Short-Term Training to the CAP, as follows.

84.246K | Rehabilitation Short-Term Training to the CAP | $200,000

Any activities carried out during the year of this continuation award must be consistent with the scope, goals, and objectives of the grantee's application as approved in the FY 2015 competition. The requirements for continuation awards are set forth in 34 CFR 75.253.

Regulatory Flexibility Act Certification

The Secretary certifies that the proposed waiver and extension of the project period would not have a significant economic impact on a substantial number of small entities. The only entity that would be affected by the proposed waiver and extension of the project period is the current grantee and any other potential applicant.

The Secretary certifies that the proposed waiver and extension would not have a significant economic impact on these entities because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-08172 Filed 4-22-20; 4:15 pm]

BILLING CODE 4000-01-P